DEPARTMENT OF TRANSPORTATION

Federal Aviation Administration

14 CFR Part 71

[Docket No. FAA-2013-0484; Airspace Docket No. 13-AGL-16]

RIN 2120-AA66

Amendment of VOR Federal Airways V-55 and V-169 in Eastern North Dakota

AGENCY: Federal Aviation Administration (FAA), DOT.

ACTION: Final rule, technical amendment.

SUMMARY: This action amends VHF Omnidirectional Range (VOR) Federal airways V-55 and V-169 in eastern North Dakota. The FAA is taking this action to amend the airway descriptions contained in Part 71 by removing reference to special use airspace (SUA) exclusionary language no longer needed.

DATES: Effective date 0901 UTC, August 22, 2013. The Director of the Federal Register approves this incorporation by reference action under 1 CFR part 51, subject to the annual revision of FAA Order 7400.9 and publication of conforming amendments.

FOR FURTHER INFORMATION CONTACT: Colby Abbott, Airspace Policy and ATC Procedures Group, Office of Mission Support Services, Federal Aviation Administration, 800 Independence Avenue SW., Washington, DC 20591; telephone: (202) 267-8783.

SUPPLEMENTARY INFORMATION:

History

In 1979, the FAA took action to amend VOR Federal airways V-55 (44 FR 43714, July 26, 1979) and V-169 (44 FR 24543, April 26, 1979) by adding airway segments that extended the airways through the Devils Lake East and Devils Lake West Military Operations Areas (MOAs). The amendments extended V-55 westward by adding an airway segment from Grand Forks, ND, to Bismarck, ND, through the existing Devils Lake East MOA and extended V-169 northward by adding an airway segment from Bismarck, ND, to Devils Lake, ND, through the Devils Lake West MOA. At that time, the Devils Lake East MOA existed from 3,500 feet mean sea level (MSL) to 10,000 feet MSL and the Devils Lake West MOA existed from 4,000 feet MSL to 10,000 feet MSL. As part of the amendment actions to V-55 and V-169, the airway descriptions excluded the airspace contained within the associated MOA lateral boundary and altitudes from the affected airway.

In 1980, the FAA circularized a proposal to change the boundary between the Devils Lake East and Devils Lake West MOAs and to raise the ceiling of the Devils Lake East MOA from 10,000 feet MSL to a ceiling of to, but not including, flight level (FL) 180. Within the proposed Devils Lake East MOA, V-55 would be available for non-participating aircraft either at 11,000 feet and above during low level intercept training (3,500 feet MSL to 10,000 feet MSL) or at 9,000 feet MSL and below during Basic Fighter Maneuvers (BFM) training (10,000 feet MSL and above) being conducted by the military. In 1981, the proposed action was approved and the MOAs amended accordingly; unfortunately, no action was taken with respect to the existing exclusionary language contained in the V-55 description under Part 71 when the Devils Lake East MOA was raised.

In 1987, the FAA circularized a similar proposal to raise the ceiling of the Devils Lake West MOA from 10,000 feet MSL to a ceiling of to, but not including, FL 180. The proposed action was approved in the same year and the MOA ceiling was amended accordingly. Again, no action was taken with respect to the existing exclusionary language contained in the V-169 description under Part 71 when the Devils Lake West MOA ceiling was raised.

The FAA notes there are numerous MOAs throughout the National Airspace System (NAS) that have VOR Federal airways charted through them, with no exclusionary language contained in those airway descriptions. In fact, the Devils Lake East MOA has three VOR Federal airways that extend through it, but only V-55 contains exclusionary language relative to the MOA. It is standard procedure for air traffic control (ATC) to re-route instrument flight rules (IFR) aircraft operating on Federal airways when the airway lies within an active MOA and IFR separation from military activity in the MOA cannot be provided by ATC. The guidance describing this procedure is published in FAA Order 7110.65, Air Traffic Control, and the Aeronautical Information Manual for controller and pilot awareness, respectively. Additionally, although pilots operating under visual flight rules (VFR) should exercise extreme caution while flying within a MOA when military activity is being conducted, MOAs are not restrictive to VFR aircraft, which opt to fly the same routing as a VOR Federal airway, at VFR altitudes, through an active MOA. Removing the SUA exclusionary language contained in the V-55 and V-169 legal descriptions, which is redundant to existing ATC procedures does not affect the operational use or services provided by ATC to aircraft operating on the airways.

Accordingly, since this amendment is administrative in nature, having no impact to the operational use or ATC services provided to pilots flying on V-55 and V-169, notice and public procedures under Title 5 U.S.C. 553(b) are unnecessary.

The Rule

The FAA amends Title 14, Code of Federal Regulations part 71 by amending the legal descriptions of VOR Federal airways V-55 and V-169 in the vicinity of Devils Lake, ND. Specifically, the FAA amends the V-55 description by removing the exclusionary language associated with the Devils Lake East MOA and amends the V-169 description by removing the exclusionary language associated with the Devils Lake West MOA.

VOR Federal airways are listed in paragraph 6010 of FAA Order 7400.9W dated August 8, 2012, and effective September 15, 2012, which is incorporated by reference in 14 CFR 71.1. The VOR Federal airways listed in this document will be revised subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends existing VOR Federal airways within the NAS.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012, and effective September 15, 2012, is amended as follows:

Paragraph 6010 VOR Federal Airways.

(a) Domestic VOR Federal airways.

* * * * *

V-55

From Dayton, OH; Fort Wayne, IN; Goshen, IN; Gipper, MI; Keeler, MI; Pullman, MI; Muskegon, MI; INT Muskegon 327° and Green Bay, WI, 116° radials; Green Bay; Stevens Point, WI; INT Stevens Point 281° and Eau Claire, WI, 107° radials; Eau Claire; Siren, WI; Brainerd, MN; Park Rapids, MN; Grand Forks, ND; INT Grand Forks 239° and Bismarck, ND, 067° radials; to Bismarck.

* * * * *

V-169

From Tobe, CO; 69 MSL, Hugo, CO; 38 miles, 67 MSL, Thurman, CO; Akron, CO; Sidney, NE; Scottsbluff, NE; Toadstool, NE; Rapid City, SD; Dupree, SD; Bismarck, ND; to Devils Lake, ND.

Issued in Washington, DC, June 13, 2013.
Gary A. Norek,
Manager, Airspace Policy and ATC Procedures Group.

[FR Doc. 2013-14657 Filed 6-19-13; 8:45 am]

BILLING CODE 4910-13-P